DEPARTMENT OF AGRICULTURE

Forest Service

Intermountain Region, Payette National Forest, Council Ranger District, Idaho, Middle Fork Weiser River Landscape Restoration Project

AGENCY: Forest Service, USDA.

ACTION: Notice of intent to prepare an environmental impact statement.

SUMMARY: The Council Ranger District of the Payette National Forest will prepare an Environmental Impact Statement (EIS) for the Middle Fork Weiser River Landscape Restoration Project. The Middle Fork Weiser River Landscape Restoration Project area is located approximately six miles southeast of Council, Idaho, primarily in the Middle Fork Weiser River watershed. It comprises approximately 50,000 acres and is within the boundaries of the Council Ranger District of the Payette National Forest, in Adams County Idaho. The project is designed to move vegetation toward desired conditions, improve wildlife habitat, reduce forest fuels, improve watershed conditions through a variety of activities including commercial and non-commercial vegetation management and road system modifications and maintenance; improve recreation infrastructure and opportunities; and improve firefighter and public safety by establishing fuelbreaks.

DATES: Comments concerning the scope of the analysis must be received by January 23, 2015. The draft environmental impact statement is expected August, 2015 and the final environmental impact statement is expected February 2016.

ADDRESSES: Send written comments to Keith Lannom, Forest Supervisor, 500 N. Mission Street, Building 2, McCall, Idaho 83638. Comments may also be sent via email to comments-intermtn-payette@fs.fed.us, or via facsimile to 208-634-0744.

FOR FURTHER INFORMATION CONTACT: Stephen Penny, Project Team Leader, 208-253-0164, spenny@fs.fed.us. Individuals who use telecommunication devices for the deaf (TDD) may call the Federal Information Relay Service (FIRS) at 1-800-877-8339 between 8 a.m. and 8 p.m., Eastern Time, Monday through Friday.

SUPPLEMENTARY INFORMATION:

Purpose and Need for Action

The purpose is to: (1) Move vegetation toward the desired conditions (e.g., canopy closure in large tree class, species composition, and size class distribution) defined in the Forest Plan and consistent with the current science for restoration of ponderosa pine, Douglas-fir, grand fir, subalpine fir and lodgepole habitat types, with an emphasis on: (a) Improving habitat for specific wildlife species of concern, such as the species dependent on dry coniferous forests, while maintaining habitat for federally-listed and sensitive species; (b) Maintaining and promoting large tree forest structure, early seral species composition (for example aspen, western larch, ponderosa pine, and Douglas-fir) and forest resiliency to fire, insects and disease and climate change; (c) Reducing the risk of uncharacteristic wildland fire, with an emphasis on restoring and maintaining desirable plant community attributes including fuel levels, fire regimes, and other ecological processes; and (d) Maintaining and promoting large trees where retention is consistent with the above objectives. (2) Maintaining and promoting legacy ponderosa pine and western larch and legacy-like Douglas fir; (3) Restore heterogeneous fine and landscape scale mosaic patterns by establishing varying patch sizes consistent with spatial patterns that promote forest resilience to disturbance; (4) Within dry non-forested habitats, maintain and promote native grasses and restore desired conditions for age and canopy class structure on sagebrush and bitterbrush; (5) Decrease the conifer encroachment into aspen and non-forested habitats; (6) In order of priority, move the Granite Creek subwatershed from a Watershed Condition Framework (WCF) rating of Class 3 (Impaired) to a Class 2 (Functioning at Risk), and move Mica Creek, Jungle Creek, and Little Fall Creek subwatersheds within the Project area toward the desired condition for soil, water, riparian, and aquatic resources; (7) Manage recreation use in the Project with an emphasis on hardening primary dispersed recreation areas, improving existing trails and providing new trail opportunities including an OHV loop and a non-motorized trail; (8) Contribute to the economic vitality of the communities adjacent to the Payette National Forest; and (9) Improve firefighter and public safety by establishing strategically placed defensible fuelbreaks within the Project area.

The need for the Project is based on the difference between the existing and desired conditions. These differences include: (1) Loss of habitat for Family 1 wildlife species, such as the white-headed woodpecker, compared to historical conditions; (2) Fewer large tree size classes than desired in the drier forest types (Potential Vegetation Groups 2, and 5), and higher canopy cover; (3) Fewer early seral tree species (i.e. aspen, ponderosa pine and western larch) than desired; (4) Increased stand and landscape homogeneity of size classes, species diversity, tree distributions and canopy closure; (5) Increased high canopy closer in the large size classes in some vegetation types; (6) Increased conifer encroachment into aspen and non-forested habitats; (7) Fewer fire resistant tree species (i.e., ponderosa pine and Western larch) and higher densities of non-fire resistant tree species; (8) Higher surface fuel loading in those areas that have missed one or more fire return intervals; (9) Less than desired watershed function and integrity, including increased sedimentation, hydrologic risk from flooding, disturbance in RCAs (mainly road-related), habitat fragmentation, lack of large woody debris in some streams, and lack of coarse woody debris in areas of past timber harvest; and (10) Trail and recreation facilities that do not meet current design and accessibility standards.

Proposed Action

The Proposed Action includes: Up to 13,002 acres of commercial harvests (a combination of Free Thin, Free Thin-Patch Cut-Selection Harvest, Aspen Restoration, and Mature Plantation Harvest). Combined commercial and non-commercial vegetation treatments include up to 5,280 acres of Meadow Restoration and 1,267 acres of Restoration of Low Density Timber Stands. Non-commercial treatments include thinning up to 4,309 acres. These acreages include treatments designed for and within Riparian Conservation Areas (RCAs) and total approximately 3,428 acres. Prescribed burning would be conducted on up to 37,000 acres and approximately 13 miles of shaded fuelbreak would be created.

Currently closed roads used for timber harvest would be evaluated for firewood retrieval, and could include firewood decks made available for public use.

Watershed improvements proposed would improve watershed function and resiliency through minimizing the impact of the road and trail network throughout Middle Fork Weiser River watershed, and restoring vegetation and soil productivity in riparian areas. Treatments include road and trail decommissioning, improvements and reroutes, improvement to dispersed recreation sites within the Middle Fork Weiser River RCA, and vegetation treatments designed to restore or enhance native riparian vegetation through mechanical or hand treatment, prescribed fire, and planting and seeding.

Forest Service System road treatments proposed throughout the project area include maintenance and/or improvement of Forest Service System Roads. This could include graveling, reshaping, upgrading and replacing culverts, and stabilizing cut and fill slopes. Approximately 16.6 miles of system road would be placed in long-term closure status. Long-term closure treatments include stabilizing the road surface and cut and fill slopes, removing or bypassing culverts, and blocking the entrance. Approximately 16.1 miles of system roads and 62.1 miles of unauthorized routes would be decommissioned. Decommissioning treatments proposed range from full recontour to spot treating isolated areas such as stream crossings on roads that have little to no defined prism and have recovered.

Culverts that restrict proper hydrologic function and passage of fish and other aquatic organisms would be replaced. These are: (1) FS System Road 50186 at the Middle Fork Weiser River near the junction with FS System Road 50245 and (2) FS System Road 50186 at Big Creek.

Developed and dispersed recreation improvements include: 1) Cabin Creek Campground—Install and relocate one single vault toilet to replace the old existing one, add new site markers to individual campsites, install a new fee tube and information kiosk, install accessible tables, and build an accessible pathway to the water system, gravel the main campground loop road, and widen the road and turn at the campground access to accommodate full size recreational vehicles; (2) Make improvements to the Horse Cabin Flat dispersed site including installation of up to four hitch rails, designation of camping sites using boulders, graveling and site signs to mark the allowed camping locations, add a single vault toilet; (3) Harden the crossing of the Middle Fork Weiser River at the dispersed camping area for stock use and to minimize resource damage and focus motorized access to the existing bridge approximately 300 feet from this crossing. Make improvements to the site in general (hardening, providing physical barriers to direct use) in order to minimize impacts to the adjacent Middle Fork Weiser River; and 4) Roads identified for decommissioning would be evaluated for site-specific dispersed recreation opportunities, at the intersection with FS System open, or seasonally open roads, if no resource concerns are identified.

Trail improvements include: (1) Establish trailheads with parking and hitch rails for the #205 (northeast) and the #198 (southwest) trails. Both trailheads would require securing easements from Potlatch Corporation, the private landowner; (2) To accommodate continued two-wheel motorized access on the entire #198 trail, change the designation of a short section (two miles) of the trail from non-motorized to two-wheel motorized use; (3) Perform trail maintenance (including proper signing) on 24 miles of existing open designed trail within the Project area; (4) Construct and formally designate for seasonal use, a motorized OHV loop Trail (Trail open to vehicles 70 inches and less in width) using closed road 50166 and closed road 50485, to provide a motorized trail approximately three miles in length. This would require ½ mile of new trail construction to complete and close the loop; (5) Sign and formally designate the former #202 trail as open for non-motorized use. Complete needed switchback construction to mediate the steep sections; (6) Relocate the trailhead for the #209 ATV trail onto National Forest Lands. Change the designation of the trail from “open year round” to “seasonal”; (7) Re-route portions of the #198 trail near the base of Council Mountain to reduce resource impacts and improve sustainability. Reduce congestion of multiple trail junctions in this sensitive upper elevation trail network; and (8) Close and rehabilitate approximately four miles of unauthorized OHV trails throughout the project area.

Proposed actions in the Council Mountain and Poison Creek Inventoried Roadless Areas include (1) Prescribed burning and preparation for prescribed burning including associated handline and (2) Trail improvement and designation changes. There is no treatment proposed in the Council Mountain Research Natural Area.

Responsible Official

The Forest Supervisor of the Payette National Forest is the Responsible Official.

Nature of Decision To Be Made

Based on the purpose and need for the proposed action, the Responsible Official will determine whether to proceed with the action, as proposed, as modified by another alternative or not at all. If an action alternative is selected, the Responsible Official will determine what design features, mitigation measures and monitoring requirements.

Preliminary Issues

Preliminary issues for this project include effects related to the proposed activities on water quality, soil productivity, wildlife habitat, recreation, and access management.

Addresses

Additional project information is available on the Payette National Forest Web site at http://www.fs.usda.gov/projects/payette/landmanagement/projects.

Scoping Process

This notice of intent initiates the scoping process, which guides the development of the environmental impact statement. It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: December 17, 2014.
Keith Lannom,
Forest Supervisor, Payette National Forest.

[FR Doc. 2014-30193 Filed 12-23-14; 8:45 am]

BILLING CODE 3410-11-P